DEPARTMENT OF HEALTH AND HUMAN SERVICES

Administration for Children and Families

Submission for OMB Review; Comment Request

Title: Trafficking Victim Assistance Program Data.

OMB No.: 0970—NEW.

Description: The Trafficking Victims Protection Act of 2000 (TVPA), as amended, authorizes the Secretary of Health and Human Services (HHS) to expand benefits and services to foreign nationals in the United States who are victims of severe forms of trafficking in persons. Such benefits and services may include services to assist potential victims of trafficking. (Section 107(b)(1)(B) of the TVPA, 22 U.S.C. 7105(b)(1)(B)).

The Administration for Children and Families (ACF) intends to award cooperative agreements in fiscal year 2015 to approximately three organizations that will ensure national coverage. The awarded organization must provide comprehensive case management and referrals to qualified persons, either directly through its own organization or by partnering with other organizations through contracts or both.

Persons qualified for services under this grant are victims of a severe form of trafficking in persons who have received certification from HHS; potential victims of a severe form of trafficking who are actively seeking to achieve HHS certification; family members with derivative T visas, and minor dependent children of foreign victims of severe forms of trafficking in persons or potential victims of trafficking.

To help measure each grant project's performance and the success of the program in assisting participants, to assist grantees to assess and improve their projects over the course of the project period, and to fulfill instructions for a consolidated report to several committees of the House of Representatives, ACF proposes to collect information from TVAP grant project participants through the grantees on a monthly, quarterly, or annual basis, including participant demographics (age, sex, and country of origin), type of trafficking experienced (sex, labor, or both), immigration status during participation, types of health screening and medical services received, the names of the entities providing medical services, and the amount of money expended on each type of medical service provided.

This information will help ACF assess the project's performance in assisting victims of trafficking and will better enable TVAP grantees to meet the program objectives and to monitor and evaluate the quality of case management services provided by any subcontractors. ACF will also include aggregate information in reports to Congress to help inform strategies and policies to assist victims of human trafficking.

Respondents: Individual participants in TVAP projects.

Annual Burden Estimates
Instrument | Number of respondents | Number of responses per respondent | Average burden hours per response | Total burden hours
Request for Information | 1250 | 1 | .25 | 312.5

Estimated Total Annual Burden Hours: 312.5.

Additional Information: Copies of the proposed collection may be obtained by writing to the Administration for Children and Families, Office of Planning, Research and Evaluation, 370 L'Enfant Promenade SW., Washington, DC 20447, Attn: ACF Reports Clearance Officer. All requests should be identified by the title of the Information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2015-19035 Filed 8-3-15; 8:45 am]

BILLING CODE 4184-01-P